DEPARTMENT OF JUSTICE

28 CFR Part 0

[Docket No. AG Order No. 3108-2009]

The Attorney General's Advisory Committee of United States Attorneys

AGENCY: Department of Justice.

ACTION: Final rule.

SUMMARY: This rule amends the Department of Justice regulation concerning the Attorney General's Advisory Committee of United States Attorneys. The amendments will provide the Attorney General greater flexibility in determining the size of the Committee, and will provide that the Attorney General will select the Committee's leadership.

DATES: Effective Date: September 15, 2009.

FOR FURTHER INFORMATION CONTACT: Norman Wong, Deputy Director and Counsel to the Director, Executive Office for United States Attorneys, Department of Justice, 950 Pennsylvania Avenue, Washington, DC 20530 (202) 514-2121.

SUPPLEMENTARY INFORMATION: This regulation recognizes that the United States Attorneys, as Presidential appointees having responsibilities mandated by Congress (28 U.S.C. 547), should be afforded an appropriate and formal means for contributing to the development of Department of Justice policies and procedures. The Attorney General's Advisory Committee of United States Attorneys (“Committee”) aids the improvement of communication between federal and state law enforcement officials, the promotion of greater consistency in the application of legal standards, and the improvement of the criminal justice system at all levels of government. Under the existing regulation, the Committee is composed of fifteen members designated by the Attorney General, and the Committee is charged with selecting its leadership. Under the revised regulation, the Attorney General will determine the number of Committee members and will select from the membership a chairperson and vice-chairperson. The United States Attorney for the District of Columbia will serve as an ex officio member.

Administrative Procedure Act

This rule is a rule of agency organization and procedure, and relates to the internal management of the Department of Justice. It is therefore exempt from the requirements of notice and comments and a delayed effective date. 5 U.S.C. 553(b), (d).

Regulatory Flexibility Act

The Attorney General, in accordance with the Regulatory Flexibility Act (5 U.S.C. 605(b), has reviewed this regulation and by approving it certifies that this regulation will not have a significant economic impact on a substantial number of small entities because it pertains to personnel and administrative matters affecting the Department. Further, a Regulatory Flexibility Analysis was not required to be prepared for this final rule since the Department was not required to publish a general notice of proposed rulemaking for this matter.

Regulatory Order 12866—Regulatory Planning and Review

This action has been drafted and reviewed in accordance with Executive Order 12866, Regulatory Planning and Review, § 1(b), Principles of Regulation. This rule is limited to agency organization, management and personnel as described by Executive Order 12866 § 3(d)(3) and, therefore, is not a “regulation” or “rule” as defined by that Executive Order. Accordingly, this action has not been reviewed by the Office of Management and Budget.

Executive Order 12988—Civil Justice Reform

This regulation meets the applicable standards set forth in sections 3(a) and 3(b)(2) of Executive Order 12988.

Executive Order 13132—Federalism

This regulation will not have substantial direct effects on the States, on the relationship between the national government and the States, or on the distribution of power and responsibilities among the various levels of government. Therefore, in accordance with Executive Order 13132, it is determined that this rule does not have sufficient federalism implications to warrant the preparation of a Federal Assessment.

Unfunded Mandates Reform Act of 1995

This rule will not result in the expenditure by state, local and tribal governments, in the aggregate, or by the private sector, of $100,000,000 or more in any one year, and it will not significantly or uniquely affect small governments. Therefore, no actions were deemed necessary under the provisions of the Unfunded Mandates Reform Act of 1995.

Congressional Review Act

This action pertains to agency management, personnel and organization and does not substantially affect the rights or obligations of non-agency parties and, accordingly, is not a “rule” as that term is used by the Congressional Review Act (Subtitle E of the Small Business Regulatory Enforcement Fairness Act of 1996 (SBREFA)). Therefore, the reporting requirement of 5 U.S.C. 801 does not apply.

List of Subjects in 28 CFR Part 0

Authority delegations (government agencies), Government employees, Organization and functions (government agencies), Whistleblowing.

By virtue of the authority vested in me by 28 U.S.C. 509 and 510, and 5 U.S.C. 301, Subpart B of Part 0 of Chapter I of Title 28, Code of Federal Regulations, is amended as follows:

PART 0—ORGANIZATION OF THE DEPARTMENT OF JUSTICE

1. The authority citation of Part 0 continues to read as follows:

Authority: 5 U.S.C. 301; 28 U.S.C. 209, 510, 515-519.

2. In § 0.10, paragraphs (a) and (c) are revised to read:

§ 0.10 Attorney General's Advisory Committee of United States Attorneys.

(a) The Attorney General's Advisory Committee of United States Attorneys shall consist of an appropriate number of United States Attorneys, designated by the Attorney General. The membership shall be selected to represent the various geographic areas of the Nation and various sized United States Attorneys' Offices. Members shall serve at the pleasure of the Attorney General, but such service normally shall not exceed three years and shall be subject to adjustment by the Attorney General so as to assure the annual rotation of approximately one-third of the Committee's membership. The United States Attorney for the District of Columbia shall serve as an ex officio member of the Committee. The Attorney General may designate additional personnel from United States Attorneys' Offices to serve as members of the Committee.

* * * * *

(c) The Attorney General will select from the Committee's membership a chairperson and a vice-chairperson. The Attorney General may establish such subcommittees as deemed necessary to carry out the Committee's objectives. The Committee, in consultation with the Director of the Executive Office for United States Attorneys, will select chairpersons for such subcommittees. United States Attorneys who are not members of the Committee may be included in the membership of subcommittees.

* * * * *

Dated: September 4, 2009.
Eric H. Holder, Jr.,
Attorney General.

[FR Doc. E9-22124 Filed 9-14-09; 8:45 am]

BILLING CODE P